DEPARTMENT OF THE INTERIOR

National Park Service

Notice of Inventory Completion: University of Oregon, Oregon State Museum of Anthropology, Eugene, OR

AGENCY: National Park Service, Interior.

ACTION: Notice.

Notice is here given in accordance with the Native American Graves Protection and Repatriation Act (NAGPRA), 25 U.S.C. 3003, of the completion of an inventory of human remains in the possession of the University of Oregon, Oregon State Museum of Anthropology, Eugene, OR. The human remains were removed from Grant County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Oregon State Museum of Anthropology professional staff in consultation with representatives of the Burns Paiute Tribe; Confederated Tribes of the Umatilla Indian Reservation, Oregon; and Confederated Tribes of the Warm Springs Reservation of Oregon.

At an unknown date, human remains representing a minimum of one individual were removed from the “Aldrich Mtns south Dayville,” Grant County, OR, by an unknown person. The human remains were donated to the museum by a private donor. No known individual was identified. No associated funerary objects are present.

The Aldrich Mountains border the upper John Day River Valley. Historical documents, ethnographic sources, and oral history indicate that the Umatilla and Northern Paiute people have occupied the upper John Day River Valley since precontact times. Based on skeletal evidence of heavy dental wear, the human remains were determined to be Native American. The human remains were recovered from the aboriginal lands of the Umatilla or Northern Paiute. Descendants of the Umatilla are members of the Confederated Tribes of the Umatilla Indian Reservation, Oregon; descendants of the Northern Paiute who used this area are members of the Burns Paiute Tribe and Confederated Tribes of the Warm Springs Reservation of Oregon.

Officials of the Oregon State Museum of Anthropology have determined that, pursuant to 25 U.S.C. 3001 (9-10), the human remains described above represent the physical remains of one individual of Native American ancestry. Officials of the Oregon State Museum of Anthropology also have determined that, pursuant to 25 U.S.C. 3001 (2), there is a relationship of shared group identity that can be reasonably traced between the Native American human remains and the Burns Paiute Tribe; Confederated Tribes of the Umatilla Indian Reservation, Oregon; and/or Confederated Tribes of the Warm Springs Reservation of Oregon.

Representatives of any other Indian tribe that believes itself to be culturally affiliated with the human remains should contact Pamela Endzweig, Oregon State Museum of Anthropology, 1224 University of Oregon, Eugene, OR 97403-1224, telephone (541) 346-5120, before January 29, 2009. Repatriation of the human remains to the Burns Paiute Tribe; Confederated Tribes of the Umatilla Indian Reservation, Oregon; and/or Confederated Tribes of the Warm Springs Reservation of Oregon may proceed after that date if no additional claimants come forward.

The Oregon State Museum of Anthropology is responsible for notifying the Burns Paiute Tribe; Confederated Tribes of the Umatilla Indian Reservation, Oregon; and Confederated Tribes of the Warm Springs Reservation of Oregon that this notice has been published.

Dated: November 20, 2008
Sherry Hutt,
Manager, National NAGPRA Program.

[FR Doc. E8-30889 Filed 12-29-08; 8:45 am]

BILLING CODE 4312-50-S